FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201353-001.

Agreement Name: THE Alliance/Evergreen Vessel Sharing Agreement.

Parties: Hapag Lloyd AG; Ocean Network Express Pte. Ltd.; Yang Ming Marine Transport Corp., Yang Ming (UK) Ltd., and Yang Ming (Singapore) Pte. Ltd. (acting as a single party); and Evergreen Marine Corporation (Taiwan) Ltd.

Synopsis: The amendment updates the party listing for Evergreen Line (ELJSA) to include Evergreen Marine (Asia) Pte. Ltd.

Proposed Effective Date: 7/22/2021.

Location: https://www2.fmc.gov/FMC.Agreements.Web/Public/AgreementHistory/39502.

Agreement No.: 201282-001.

Agreement Name: Hyundai Glovis/Grimaldi West Africa Space Charter Agreement.

Parties: Hyundai Glovis Co. Ltd. and Grimaldi Deep Sea S.P.A.

Synopsis: The amendment revises Article 5(1)(d) to clarify that the parties do not have authority to contract jointly with terminals and stevedores and updates the address of Hyundai Glovis.

Proposed Effective Date: 6/10/2021.

Location: https://www2.fmc.gov/FMC.Agreements.Web/Public/AgreementHistory/20303.

Agreement No.: 011790-005.

Agreement Name: Dole Ocean Cargo Express/King Ocean Services Limited Space Charter Agreement.

Parties: Dole Ocean Cargo Express, LLC and King Ocean Services Limited.

Synopsis: The amendment revises the language of Article 5.3 to clarify that the parties do not have authority to contract jointly with terminals and stevedores.

Proposed Effective Date: 6/10/2021.

Location: https://www2.fmc.gov/FMC.Agreements.Web/Public/AgreementHistory/639.

Agreement No.: 012443-004.

Agreement Name: Hyundai Glovis/Sallaum Cooperative Working Agreement.

Parties: Hyundai Glovis Co. Ltd. and Sallaum Lines Switzerland SA.

Synopsis: The amendment revises Article 5.2 to clarify that the parties do not have authority to contract jointly with terminals and stevedores and updates the address of Hyundai Glovis.

Proposed Effective Date: 6/10/2021.

Location: https://www2.fmc.gov/FMC.Agreements.Web/Public/AgreementHistory/1921.

Dated: June 11, 2021.
Rachel E. Dickon,
Secretary.

[FR Doc. 2021-12689 Filed 6-15-21; 8:45 am]

BILLING CODE 6730-02-P